DEPARTMENT OF TRANSPORTATION

National Highway Traffic Safety Administration

[Docket No. NHTSA-2000-7705; Notice 2]

Mootness of Application for Decision of Inconsequential Noncompliance

The following companies, Osram Sylvania Products, Inc., (Osram); Subaru of America, Inc., (Subaru); Koito Manufacturing Co., LTD. (Koito); North American Lighting, Inc. (NAL); Stanley Electric Co., LTD, (Stanley); and General Electric Company (GE) have determined that certain H1 replaceable light sources they manufactured or used in lamp assemblies did not have the “DOT” marking required under 49 CFR 571.108, Federal Motor Vehicle Safety Standard (FMVSS) No. 108, “Lamps, Reflective Devices, and Associated Equipment.” These companies have also applied to be exempted from the notification and remedy requirements of 49 U.S.C. Chapter 301—“Motor Vehicle Safety” on the basis that the noncompliance is inconsequential to motor vehicle safety.

Under the requirements of S7.7(a) of FMVSS No. 108, each replaceable light source shall be marked with the symbol “DOT.”

Notice of receipt of the application was published in the Federal Register (66 FR 10052) on February 13, 2001. Opportunity was afforded for public comment until March 15, 2001. No comments were received.

Between January 1998 and January 2000, Osram produced 841,283 H1 replaceable light sources without the required “DOT “ marking. In its Part 573 report, Osram stated that it was not possible to determine exactly how many light sources were used in headlamp assemblies as opposed to those which were used in fog lamp assemblies. However, the point is irrelevant, since light sources are subject to the requirements of the standard if they are, in fact, capable of being used as a replaceable light source in a headlamp.

Between February 1999 and January 2000, NAL used 118,756 of these Osram replaceable light sources in headlamp assemblies. Subaru installed 110,784 of these NAL headlamp assemblies in model year 2000 Legacy vehicles from February 1999 through February 2000.

Stanley used 30,426 of the Osram replaceable light sources in headlamp assemblies intended for Honda Preludes produced between October 22, 1998 and January 27, 2000. Koito used 12,340 of the Osram replaceable light sources in headlamp assemblies it manufactured between June 1999 and January 2000.

Also, a separate group of replaceable light sources with similar certification problems were manufactured by GE. GE produced 2,490 of these between April 1, 1999 and March 23, 2000. The GE replaceable light sources are included in this notice because of these similarities.

All of the applicants have indicated that the subject replaceable light sources, with the exception of the absence of the “DOT” marking, fully comply with all the performance and design requirements of FMVSS No. 108 and do not constitute any risk to motor vehicle safety. Osram has submitted confidential test data to show this.

We have reviewed the applications. Since the purpose of the “DOT” marking is to certify that the replaceable light sources comply with all applicable standards, the failures to mark light sources with DOT symbols are considered as violations of 49 U.S.C. 30115, Certification, which does not require notification or remedy. Therefore, after due consideration, we have decided that the applications referenced above are moot.

(49 U.S.C. 30118(d) and 30120(h); delegations of authority at 49 CFR 1.50 and 501.8)

Issued on: July 17, 2001.
Stephen R. Kratzke,
Associate Administrator for Safety Performance Standards.

[FR Doc. 01-18308 Filed 7-20-01; 8:45 am]

BILLING CODE 4910-59-P